DEPARTMENT OF VETERANS AFFAIRS

[OMB Control No. 2900-0590]

Agency Information Collection Activities Under OMB Review

AGENCY: Office of Acquisition and Materiel Management, Department of Veterans Affairs.

ACTION: Notice.

SUMMARY: In compliance with the Paperwork Reduction Act (PRA) of 1995 (44 U.S.C., 3501 et seq.), this notice announces that the Office of Acquisition and Materiel Management, Department of Veterans Affairs, has submitted the collection of information abstracted below to the Office of Management and Budget (OMB) for review and comment. The PRA submission describes the nature of the information collection and its expected cost and burden; it includes the actual data collection instrument.

DATES: Comments must be submitted on or before February 14, 2002.

FOR FURTHER INFORMATION OR A COPY OF THE SUBMISSION CONTACT: Denise McLamb, Information Management Service (045A4), Department of Veterans Affairs, 810 Vermont Avenue, NW, Washington, DC 20420, (202) 273-8030 or FAX (202) 273-5981 or e-mail to: denise.mclamb@mail.va.gov. Please refer to “OMB Control No. 2900-0590” in any correspondence.

SUPPLEMENTAL INFORMATION: Titles:

a. Veterans Affairs Acquisition Regulation (VAAR) Clause 852.237-7, Indemnification and Medical Liability Insurance.

b. Veterans Affairs Acquisition Regulation (VAAR) Clause 852.237-71, Indemnification and Insurance.

c. Veterans Affairs Acquisition Regulation (VAAR) Clause 852.207-70, Report of Employment Under Commercial Activities.

OMB Control Number: 2900-0590.

Type of Review: Revision of a currently approved collection.

Abstract:

a. Veterans Affairs Acquisition Regulation Clause 852.237-7, Indemnification and Medical Liability Insurance is used in lieu of Federal Acquisition Regulation clause 52.237-7, Indemnification and Medical Liability Insurance, in solicitations and contracts for the acquisition of non-personal health care services. VAAR 852.237-7 clause requires the apparent successful bidder/offeror, upon the request of the contracting officer, prior to contract award, to furnish evidence of insurability of the offeror and/or all health-care providers who will perform under the contract. Failure to collect the information would have a negative impact on VA's ability to ensure that VA will not be held liable for any negligent acts of the contractor or its employees and ensure that VA and VA beneficiaries are protected by adequate insurance coverage.

b. Veterans Affairs Acquisition Regulation Clause 852.237-71, Indemnification and Insurance, is used in solicitations for vehicle or aircraft services. To protect VA, VAAR 852.237-71 clause requires the apparent successful bidder/offeror, prior to contract award, to furnish evidence that the firm possesses the types and amounts of insurance required by the solicitation. The information will ensure that VA will not be held liable for any negligent acts of the contractor and ensures that VA beneficiaries and the public are protected by adequate insurance coverage.

c. Veterans Affairs Acquisition Regulation (VAAR) Clause 852.207-70, Report of Employment Under Commercial Activities, is used in solicitations for commercial items and services where the work is currently being performed by VA employees and where those employees might be displaced as a result of an award to a commercial firm. VAAR 852.207-70 clause requires contractors awarded such contracts to provide, within 5 days of contract award, a list of employment openings, including salaries and benefits, and blank job applications forms. The clause requires the contractor, during the first 90 days of the contract performance, to report the names of all person hired or terminated under the contract.

An agency may not conduct or sponsor, and a person is not required to respond to a collection of information unless it displays a currently valid OMB control number. The Federal Register Notice with a 60-day comment period soliciting comments on this collection of information was published on September 28, 2001, at pages 49744—49745.

Affected Public: Business or Other for Profit, Individuals or Households, Not-for-Profit Institutions and State, Local or Tribal Government.

Estimated Annual Burden: 1,300 hours.

a. Veterans Affairs Acquisition Regulation (VAAR) Clause 852.237-7, Indemnification and Medical Liability Insurance—750 hours.

b. Veterans Affairs Acquisition Regulation (VAAR) Clause 852.237-71, Indemnification and Insurance—250 hours.

c. Veterans Affairs Acquisition Regulation (VAAR) Clause 852.207-70, Report of Employment Under Commercial Activities—300 hours.

Estimated Average Burden Per Respondent:

a. Veterans Affairs Acquisition Regulation (VAAR) Clause 852.237-7, Indemnification and Medical Liability Insurance—30 minutes.

b. Veterans Affairs Acquisition Regulation (VAAR) Clause 852.237-71, Indemnification and Insurance—30 minutes.

c. Veterans Affairs Acquisition Regulation (VAAR) Clause 852.207-70, Report of Employment Under Commercial Activities—30 minutes.

Frequency of Response: On occasion.

Estimated Number of Respondents: 2,600.

a. Veterans Affairs Acquisition Regulation (VAAR) Clause 852.237-7, Indemnification and Medical Liability Insurance—1,500.

b. Veterans Affairs Acquisition Regulation (VAAR) Clause 852.237-71, Indemnification and Insurance—500.

c. Veterans Affairs Acquisition Regulation (VAAR) Clause 852.207-70, Report of Employment Under Commercial Activities—200 (three reports per contract awarded).

Send comments and recommendations concerning any aspect of the information collection to VA's OMB Desk Officer, OMB Human Resources and Housing Branch, New Executive Office Building, Room 10235, Washington, DC 20503 (202) 395-7316. Please refer to “OMB Control No. 2900-0590” in any correspondence.

Dated: December 18, 2001.
By direction of the Secretary.
Donald L. Neilson,
Director, Information Management Service.

[FR Doc. 02-994 Filed 1-14-02; 8:45 am]

BILLING CODE 8320-01-P